DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-041. Applicant: The Ohio State University, Materials Science and Engineering, 2041 College Road, Columbus, OH 43210. Instrument: Electron Microscope, Model Tecnai F20 S-TWIN. Manufacturer: FEI Company, The Netherlands. Intended Use: The instrument is intended to be used for morphological and structural studies of ceramics and metals, including high temperature superconductors, high temperature metal alloys, evaporated metal thin films, silicon bicrystals, soils and geological minerals, polymers and possibly some biological samples. Also, the instrument will be used to measure the morphology and orientation of grains and particles, as well as the structure, long and short range ordering, number and type of defects and the elemental composition of various phases in the materials. Application accepted by Commissioner of Customs: September 25, 2002.

Docket Number: 02-042. Applicant: The Pennsylvania State University, Microarray Facility, Wartik Laboratory, University Park, PA 16802. Instrument: Plate Filler, Model QFill2. Manufacturer: Genetix Limited, United Kingdom. Intended Use: The instrument is intended to be used to rapidly dispense growth medium into 96 and 384-well microtitre plates to support bacterial growth for molecular biology experiments. The gene and genome sequences of an organism under study will be cloned into small circular DNA molecules (“plasmids”) that are grown inside standard E. coli bacteria in any molecular or genomics laboratory for use in performing the experiments. Objectives pursued in the course of the investigations are: (a) Gene discovery, (b) gene sequence characterization, (c) discovery of expressed gene sequences, and (d) genome-wide description of gene expression patterns in different tissues. Application accepted by Commissioner of Customs: September 26, 2002.

Docket Number: 02-043. Applicant: The Pennsylvania State University, Microarry Facility, Wartik Laboratory, University Park, PA 16802. Instrument: Colony Picking/Arraying Robot, Model Q PixII. Manufacturer: Genetix Limited, United Kingdom. Intended Use: The instrument is intended to be used to manipulate (pick, transfer, sort or replicate) bacterial colonies that contain either circular plasmids or viral phage particles. The plasmids and phage in turn will contain fragments (clones) of DNA or expressed gene sequences (cDNAs) from an organism of interest. Libraries of DNA or cDNA are used to map and study the sequence of genes in the genome, and to obtain information about which genes are expressed in an organism at a given time. Objectives pursued in the course of the investigations are: (a) Gene discovery, (b) gene sequence characterization, (c) discovery of expressed gene sequences and (d) genome-wide description of gene expression patterns in different tissues. Application accepted by Commissioner of Customs: September 26, 2002.

Docket Number: 02-045. Applicant: University of Vermont, College of Medicine, Molecular Physiology & Biophysics, HSRF, Room 120, 149 Beaumont Avenue, Burlington, VT 05405. Instrument: Electron Microscope, Model Tecnai 12 TWIN. Manufacturer: FEI Company, The Netherlands. Intended Use: The instrument is intended to be used to carry out structural studies of biological samples for the purpose of biomedical research involving metabolic enzymes. The enzymes will be isolated from yeast and plunged into liquid ethane to preserve their structure and samples will be analyzed. An enzyme goes through different steps or stages as it performs its task in the cell. By analyzing all the different states of the enzyme, a better understanding of its function can be achieved. Application accepted by Commissioner of Customs: October 1, 2002.

Gerald A. Zerdy,
Program Manager, Statutory Import Programs Staff.

[FR Doc. 02-26409 Filed 10-16-02; 8:45 am]

BILLING CODE 3510-DS-P